NUCLEAR REGULATORY COMMISSION

[NRC-2017-0205]

Instructions for Recording and Reporting Occupational Radiation Dose Data

AGENCY: Nuclear Regulatory Commission.

ACTION: Regulatory guide; issuance.

SUMMARY: The U.S. Nuclear Regulatory Commission (NRC) is issuing Revision 4 to Regulatory Guide (RG) 8.7, “Instructions for Recording and Reporting Occupational Radiation Dose Data.” Revision 4 addresses issues that were identified after Revision 3 was issued in December 2016. Revision 4 reinstates the long-standing staff position concerning a licensee's consideration of prior occupational dose when making prospective occupational dose monitoring determinations. Revision 4 retains the guidance from Revision 3 on completing NRC Form 4, “Cumulative Occupational Dose History,” and NRC Form 5, “Occupational Dose Record for a Monitoring Period.”

DATES: Revision 4 to RG 8.7 is available on May 29, 2018.

ADDRESSES: Please refer to Docket ID NRC-2017-0205 when contacting the NRC about the availability of information regarding this document. You may obtain publicly-available information related to this document using any of the following methods:

• Federal Rulemaking website: Go to http://www.regulations.gov and search for Docket ID NRC-2017-0205. Address questions about NRC dockets to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if it is available in ADAMS) is provided the first time that it is mentioned in this document. Revision 4 to RG 8.7 and the regulatory analysis may be found in ADAMS under Accession Nos. ML17221A245 and ML17152A299, respectively.

• NRC's PDR: You may examine and purchase copies of public documents at the NRC's PDR, Room O1-F21, One White Flint North, 11555 Rockville Pike, Rockville, Maryland 20852.

RGs are not copyrighted, and NRC approval is not required to reproduce them.

FOR FURTHER INFORMATION CONTACT: Harriet Karagiannis, telephone: 301-415-2493, email: Harriet.Karagiannis@nrc.gov or Minh-Thuy Nguyen, telephone: 301-415-5163; email: Minh-Thuy.Nguyen@nrc.gov. Both are staff of the Office of Nuclear Regulatory Research, U.S. Nuclear Regulatory Commission, Washington, DC 20555-0001.

SUPPLEMENTARY INFORMATION:

I. Introduction

The NRC is issuing a revision to an existing guide in the NRC's “Regulatory Guide” series. This series was developed to describe and make available to the public information regarding methods that are acceptable to the NRC staff for implementing specific parts of the NRC's regulations, techniques that the NRC staff uses in evaluating specific issues or postulated events, and data that the NRC staff needs in its review of applications for permits and licenses.

Revision 4 of RG 8.7 was issued with a temporary identification of Draft Regulatory Guide, DG-8056, to address issues identified by the NRC staff and other stakeholders subsequent to the issuance of RG 8.7, Revision 3, on December 8, 2016 (81 FR 88710). Revision 3 modified a staff position regarding the consideration of prior occupational dose and whether that should be a factor in licensee occupational monitoring determinations in accordance with section 20.1502 of title 10 of the Code of Federal Regulations (10 CFR).

After issuing Revision 3, the Nuclear Energy Institute submitted a letter to the NRC under ADAMS Package Accession No. ML18138A166 stating that Revision 3 requires licensees to consider exposures received by employees during prior employment at a different facility when determining whether monitoring is required pursuant to 10 CFR 20.1502, which was a change in agency position from: (1) The staff position that was in both Revisions 1 and 2 of RG 8.7, (2) the staff position that is in RG 8.34, “Monitoring Criteria and Methods to Calculate Occupational Radiation Doses,” and (3) over two decades of industry practice developed in accordance with these staff positions.

The NRC staff decided to issue Revision 4 to RG 8.7 to address the monitoring issues that were identified after Revision 3 was issued. The staff, however, is not rescinding Revision 3 because it allows a more conservative option for those licensees who want to consider prior occupational dose when making 10 CFR 20.1502 determinations. Revision 4 also retains the guidance from Revision 3 on completing NRC Form 4 and NRC Form 5.

II. Additional Information

DG-8056 was published in the Federal Register on October 16, 2017 (82 FR 48125) for a 60-day public comment period. The public comment period closed on December 15, 2017. Responses to comments received on DG-8056 are available under ADAMS Accession No. ML17221A246.

III. Congressional Review Act

This RG is a rule as defined in the Congressional Review Act (5 U.S.C. 801-808). However, the Office of Management and Budget has not found it to be a major rule as defined in the Congressional Review Act.

IV. Backfitting

This RG addresses compliance with the NRC's requirements in 10 CFR part 20 to record and report an individual's cumulative occupational dose history and the occupational dose received by an individual for a specific monitoring period. The NRC regards these requirements as constituting information collection and reporting requirements. The NRC has long taken the position that information collection and reporting requirements are not subject to the NRC's backfitting and issue finality regulations in 10 CFR 50.109, 10 CFR 70.76, 10 CFR 72.62, 10 CFR 76.76, and 10 CFR part 52 (e.g., “Material Control and Accounting Methods,” December 23, 2002 (67 FR 78130), and “Regulatory Improvements to the Nuclear Materials Management and Safeguards System,” June 9, 2008 (73 FR 32453)). Therefore, the NRC has determined that its backfitting and issue finality regulations would not apply to this RG because they do not include any provisions within the scope of matters covered by the backfitting provisions in 10 CFR parts 50, 70, 72, or 76, or the issue finality provisions of 10 CFR part 52.

Dated at Rockville, Maryland, this 22nd day of May, 2018.
For the Nuclear Regulatory Commission.
Thomas H. Boyce,
Chief, Regulatory Guidance and Generic Issues Branch, Division of Engineering, Office of Nuclear Regulatory Research.

[FR Doc. 2018-11374 Filed 5-25-18; 8:45 am]

BILLING CODE 7590-01-P